DEPARTMENT OF COMMERCE

Foreign-Trade Zones Board

[Order No. 1571]

Application for Subzone Status Not Approved

Johnson Controls Battery Group, Inc.

Yuma, Arizona

Pursuant to its authority under the Foreign-Trade Zones Act, of June 18, 1934, as amended (19 U.S.C. 81a-81u), the Foreign-Trade Zones Board (the Board) adopts the following Order:

Whereas, the Foreign-Trade Zones Act provides for “. . . the establishment . . . of foreign-trade zones in ports of entry of the United States, to expedite and encourage foreign commerce, and for other purposes,” and authorizes the Foreign-Trade Zones Board to grant to qualified corporations the privilege of establishing foreign-trade zones in or adjacent to U.S. Customs and Border Protection ports of entry;

Whereas, the Board's regulations (15 CFR Part 400) provide for the establishment of special-purpose subzones when existing zone facilities cannot serve the specific use involved, and when the activity results in a significant public benefit and is in the public interest;

Whereas, the Yuma County Airport Authority, grantee of FTZ 219, has made application to the Board for authority to establish special-purpose subzone status at the lead-acid battery manufacturing facility of Johnson Controls Battery Group, Inc., located in Yuma, Arizona (FTZ Docket 48-2007, filed 09-28-07);

Whereas, notice inviting public comment has been given in the Federal Register (72 FR 57287-57288, 10/09/2007); and,

Whereas, the Board adopts the findings and recommendations of the examiner's report, and finds that the requirements of the FTZ Act and the Board's regulations have not been satisfied and that approval of the application would not be in the public interest;

Now, therefore, the Board hereby does not approve the application for subzone status at the lead-acid battery manufacturing facility of Johnson Controls Battery Group, Inc., located in Yuma, Arizona.

Signed at Washington, DC, this 2 nd day of September 2008.

David M. Spooner,
Assistant Secretary of Commerce for Import Administration.
Alternate Chairman Foreign-Trade Zones Board.
ATTEST:
Andrew McGilvray,
Executive Secretary.

[FR Doc. E8-21848 Filed 9-17-08; 8:45 am]

BILLING CODE 3510-DS-S